DEPARTMENT OF JUSTICE

[Docket No. OTJ 110]

Office of the Associate Attorney General; Pilot Project for Tribal Jurisdiction Over Crimes of Domestic Violence

AGENCY: Office of the Associate Attorney General, Justice.

ACTION: Announcement of successful applications for pilot project.

SUMMARY: The Associate Attorney General, exercising authority delegated by the Attorney General, is granting the requests of two Indian tribes to be designated as participating tribes under section 204 of the Indian Civil Rights Act of 1968, as amended, on an accelerated basis, under the voluntary pilot project described in section 908(b)(2) of the Violence Against Women Reauthorization Act of 2013.

DATES: This announcement is effective immediately.

ADDRESSES: Mr. Tracy Toulou, Director, Office of Tribal Justice, Department of Justice, 950 Pennsylvania Avenue NW., Room 2310, Washington, DC 20530, email OTJ@usdoj.gov.

FOR FURTHER INFORMATION CONTACT: Mr. Tracy Toulou, Director, Office of Tribal Justice, Department of Justice, at (202) 514-8812 (not a toll-free number) or OTJ@usdoj.gov.

SUPPLEMENTARY INFORMATION: Section 908(b)(2) of the Violence Against Women Reauthorization Act of 2013 (VAWA 2013) establishes a voluntary pilot project for Indian tribes that wish to commence exercising jurisdiction on an accelerated basis over certain crimes of domestic violence and dating violence and certain criminal violations of protection orders in Indian country. This announcement provides public notice that the Associate Attorney General, exercising authority delegated by the Attorney General, is granting the requests of two Indian tribes to be designated as participating tribes under section 204 of the Indian Civil Rights Act of 1968, as amended, on an accelerated basis, under the voluntary pilot project described in section 908(b)(2) of VAWA 2013. The two tribes are (in alphabetical order):

• The Assiniboine and Sioux Tribes of the Fort Peck Indian Reservation, and

• the Sisseton-Wahpeton Oyate of the Lake Traverse Reservation.

In deciding to grant the two tribes' requests, the Department of Justice followed the procedures described in the Department's final notice on the Pilot Project for Tribal Jurisdiction over Crimes of Domestic Violence, 78 FR 71645 (Nov. 29, 2013). The Department of Justice coordinated with the Department of the Interior, consulted with affected Indian tribes, and concluded that the criminal justice system of each of the three tribes has adequate safeguards in place to protect defendants' rights, consistent with 25 U.S.C. 1304.

Prior to exercising SDVCJ, each of the two tribes will notify its community that the tribe will soon commence prosecuting “special domestic violence criminal jurisdiction” (SDVCJ) cases. That notification will include sending press releases to the print and electronic media outlets in the tribe's area.

The Department of Justice will post on its Tribal Justice and Safety Web site (http://www.justice.gov/tribal/) each of the two tribes' Application Questionnaires and all the tribal laws, rules, and policies that were attached or linked to those Application Questionnaires. Once posted, these materials will serve as a resource for those tribes that may also wish to commence exercising SDVCJ in March 2015 or later.

Dated: March 13, 2015.
Stuart Delery,
Acting Associate Attorney General.

[FR Doc. 2015-06917 Filed 3-25-15; 8:45 am]

BILLING CODE 4410-A5-P